DEPARTMENT OF HOUSING AND URBAN DEVELOPMENT

Docket No. FR-7070-N-02]

30-Day Notice of Proposed Information Collection: Housing Choice Voucher Program and Tribal HUD-VASH, OMB Control No.: 2577-0169

AGENCY: Office of Policy Development and Research, Chief Data Officer, HUD.

ACTION: Notice.

SUMMARY: HUD is seeking approval from the Office of Management and Budget (OMB) for the information collection described below. In accordance with the Paperwork Reduction Act, HUD is requesting comment from all interested parties on the proposed collection of information. The purpose of this notice is to allow for an additional 30 days of public comment.

DATES: Comments Due Date: February 17, 2023.

ADDRESSES: Interested persons are invited to submit comments regarding this proposal. Written comments and recommendations for the proposed information collection should be sent within 30 days of publication of this notice to OIRA_submission@omb.eop.gov or www.reginfo.gov/public/do/PRAMain. Find this particular information collection by selecting “Currently under 30-day Review—Open for Public Comments” or by using the search function.

FOR FURTHER INFORMATION CONTACT: Colette Pollard, Reports Management Officer, REE, Department of Housing and Urban Development, 451 7th Street SW, Washington, DC 20410; email Colette Pollard at Colette.Pollard@hud.gov or telephone 202-402-3400. This is not a toll-free number. HUD welcomes and is prepared to receive calls from individuals who are deaf or hard of hearing, as well as individuals with speech or communication disabilities. To learn more about how to make an accessible telephone call, please visit https://www.fcc.gov/consumers/guides/telecommunications-relay-service-trs. Copies of available documents submitted to OMB may be obtained from Ms. Pollard.

SUPPLEMENTARY INFORMATION: This notice informs the public that HUD is seeking approval from OMB for the information collection described in Section A.

The Federal Register notice that solicited public comment on the information collection for a period of 60 days was published on October 26, 2022 at 87 FR 64711.

A. Overview of Information Collection

Title of Information Collection: Housing Choice Voucher (HCV) Program, Project-based Voucher (PBV) Program and Tribal HUD-VASH.

OMB Approval Number: 2577-0169.

Type of Request: Reinstatement, with change of previously approved collection for which approval has expired.

Form Numbers: HUD-50164, HUD-52515, HUD-52517, HUD-52530A Part 1, HUD-52530A Part 2, HUD-52530B Part 1, HUD-52530B Part 2, HUD-52530C, HUD-52531A, HUD-52531B, HUD-52578B, HUD-52580, HUD-52580A, HUD-52641, HUD-52641A, HUD-52642, HUD-52646, HUD-52649, HUD-52665, HUD-52667, HUD-5980.

Description of the need for the information and proposed use:

Public housing agencies (PHAs) assist very low-income families to lease housing on the private rental market. PHAs maintain records on participant eligibility, unit acceptability, housing assistance payments, and budget and payment documentation. PHAs may also project-base a portion of their vouchers or use their vouchers under the Homeownership option.

When new funding is available, PHAs provide information on their qualifications and experience to administer additional vouchers or provide specific funded services and HUD scores applications based on the information required in the funding notice. The PHAs must establish a utility allowance schedule for all utilities and other services. Units must be inspected using HUD-prescribed forms to determine if the units meet the Housing Quality Standards (HQS) of the HCV program. After the PHA provides a briefing and information packet the family, the PHA issues the family a voucher to search for a unit. When the family finds a unit, they submit a Request for Tenancy Approval when it finds a unit which is suitable for its needs. With approval from the PHA, the family may move to another unit with continued assistance using the same forms and process already described. If the family exercises their right to port out of the PHA's jurisdiction, the initial PHA will use a standardized form to submit portability information to the receiving PHA who will also use the form for monthly portability billing. PHAs and owners will enter into housing assistance payments (HAP) contract that provides information on rents, payments, certifications, notifications, and other HCV requirements. A Tenancy Addendum for the HCV program is included in the HAP contract as well as incorporated in the lease between the owner and the family. Families that participate in the Homeownership option will execute a statement regarding their responsibilities and execute contracts of sale including an additional contract of sale for new construction units.

PHAs participating in the PBV program will enter into Agreements with owners for developing projects, HAP contracts with owners of e existing housing and New Construction/Rehabilitation projects, and a Statement of Family Responsibilities with the family. A lease addendum is executed between the family and the owner of a PBV project.

This information collection also includes the Tribal HUD-VA Supportive Housing Program (Tribal HUD-VASH), which provides rental assistance and supportive services to Native American veterans who are Homeless or At Risk of Homelessness living on or near a reservation or other Indian areas. Housing assistance under this program is made available by grants to tribes and Tribally Designated Housing Entities (TDHEs) that are eligible to receive Indian Housing Block Grant (IHBG) funding under the Native American Housing Assistance and Self-Determination Act (25 U.S.C. 4101) (NAHASDA). Tribes request Tenant-Based and/or Project-Based Rental Assistance by the number of bedrooms in a rental unit. Grants and renewal funds are awarded based on the number rental units (Tenant-Based and Project-Based Rental Assistance) approved by HUD. Grants include an additional amount for administrative costs and eligible Homeless veterans receive case management services through the Department of Veterans Affairs. Information collection requirements for this demonstration program are based on the Federal Register Notice, “Implementation of the Tribal HUD-VA Supportive Housing Program” (FR 6091-N-01) and renewal funding criteria established in PIH Notice 2018-10, “Procedural Guidance for Tribal HUD-VA Supportive Housing Renewal Grant Applications.”

The following changes were made to comply with current laws and to fix typos:

(1) HUD-52641 Housing Assistance Payment (HAP) Contract and the HUD-52641A Tenancy Addendum were updated to reflect requirements in the Permanently Protecting Tenants at Foreclosure Act of 2017 (Pub. L. 115-174).

(2) HUD-52649 Statement of Homeownership Obligations was updated to reflect the requirement in Housing Counseling: New Certification Requirements (81 FR 90632 (Dec 14, 2016)).

(3) HUD-52531A Part 1: PBV Agreement to Enter into HAP Contract for New Construction and Rehabilitation was updated to fix a typo.

(4) HUD-52530A Part 1 and HUD-52530B Part 1 were updated to reflect changes made in the Implementation of the Fostering Stable Housing Opportunities Amendments (87 FR 3570 (Jan. 24, 2022)). The term “designated” was changed to “contracted” per PIH Notice 2017-21 Implementation Guidance: Housing Opportunity Through Modernization Act 2016 (HOTMA)—Housing Choice Voucher (HCV) and Project-Based Voucher (PBV) Provisions, Attachment E. A few typos were also corrected.

(5) When referring to discrimination based on sex, added “including sexual orientation and gender identity” in parentheses to clarify that protections are provided under the Fair Housing Act. This change was made to the following forms: HUD-52641 HAP Contract, HUD-52641A Tenancy Addendum, HUD-52642 Manufactured Home Space Rental HAP Contract, HUD-52530A PBV HAP Contract New Construction Part 2, HUD-52530B PBV HAP Contract Existing Housing Part 2, HUD-52530C PBV Tenancy Addendum, HUD-52531B Agreement to Enter in a HAP Contract Part 1, HUD-52578B PBV Statement of Family Responsibilities.

(6) Reformatted the HUD-52646 Voucher and the HUD-5980 Tribal HUD-VASH Leasing Performance Report to ensure the forms are 508 compliant.

(7) Updated PRA Burden Statements and the Privacy Act Statements to ensure inclusion of required components.

(8) Added language near the signature line on several forms to notify those signing the forms of the penalty for providing false information.

(9) Added required language related to the Violence Against Women Act to the HUD-52642 Manufactured Home Space Rental HAP Contract.

Respondents: State and Local Governments, Tribes and TDHEs, owners of rental housing.

Estimated Number of Respondents: 2,244 PHAs and Tribal HUD-VASH grantees.

Estimated Number of Responses: 5,762,595.

Frequency of Response: Varies by form.

Description | Number of respondents | Responses per respondent | Total annual responses | Hours per response | Total hours
Application (HUD-52515) | 300.00 | 1.00 | 300.00 | 5.00 | 1,500.00
Application for Federal Assistance (SF-424) ¹ | 300.00 | 1.00 | 300.00 | 0.75 | 225.00
Applicant/Recipient Disclosure/Update Report (HUD-2880) ² | 300.00 | 1.00 | 300.00 | 0.08 | 24.00
Acknowledgement of Application Receipt (HUD-2993) ³ | 300.00 | 1.00 | 300.00 | 0.08 | 24.00
Certification of Consistency with the Consolidated Plan (HUD-2991) ⁴ | 300.00 | 1.00 | 300.00 | 0.08 | 24.00
Disclosure of Lobbying Activities (SF-LLL) | 300.00 | 1.00 | 300.00 | 0.08 | 24.00
Tenant-Furnished Utilities (HUD-52667) | 2,192.00 | 350.00 | 767,200.00 | 0.25 | 191,800.00
Inspection Checklist (HUD-52580 and 52580-A) | 2,192.00 | 950.00 | 2,082,400.00 | 0.50 | 1,041,200.00
Inspection Form (HUD-52580A) | 2,192.00 | 950.00 | 2,082,400.00 | 0.25 | 520,600.00
Request for Tenancy Approval (HUD-52517) | 2,192.00 | 55.00 | 120,560.00 | 0.50 | 60,280.00
Notice of Unit Approval/Denial | 2,192.00 | 55.00 | 120,560.00 | 0.50 | 60,280.00
Voucher (HUD-52646) | 2,192.00 | 60.00 | 131,520.00 | 0.05 | 6,576.00
Information Packet | 2,192.00 | 55.00 | 120,560.00 | 1.00 | 120,560.00
PHA Information to Owner about tenant | 2,192.00 | 55.00 | 120,560.00 | 0.50 | 60,280.00
Portability Information (HUD-52665) | 2,192.00 | 10.00 | 21,920.00 | 0.50 | 10,960.00
PHA Notification to Field Office of Insufficient Funds for portability moves | 400.00 | 1.00 | 400.00 | 0.50 | 200.00
HAP Contracts (HUD-52641, 52641-A, 52642, 52642) | 2,192.00 | 65.00 | 142,480.00 | 0.50 | 71,240.00
Statement of Homeowner Obligation (HUD-52649) | 100.00 | 10.00 | 1,000.00 | 0.25 | 250.00
Homeownership: Required Contract of Sale Provisions | 100.00 | 10.00 | 1,000.00 | 0.25 | 250.00
PHA PBV Public Notice of RFP | 200.00 | 1.00 | 200.00 | 1.00 | 200.00
PHA PBV Notice of Owner Selection | 200.00 | 1.00 | 200.00 | 0.50 | 100.00
PBV Agreement to enter into a HAP Contract (HUD-52531A and B) | 100.00 | 1.00 | 100.00 | 0.50 | 50.00
PBV NC/R HAP Contract (HUD-52530A, Part 1 & 2) | 100.00 | 1.00 | 100.00 | 2.00 | 200.00
PBV Existing HAP Contract (HUD-52530B, Part 1 & 2) | 100.00 | 1.00 | 100.00 | 2.00 | 200.00
PBV Tenancy Addendum (HUD-52530C) | 650.00 | 33.00 | 21,450.00 | 0.25 | 5,362.50
PBV Statement of Family Responsibilities (HUD-52578B) | 650.00 | 33.00 | 21,450.00 | 0.25 | 5,362.50
PHA Notice of Intent to Project-Base Vouchers to FO | 218.00 | 1.00 | 218.00 | 1.00 | 218.00
Owner Request to HUD FO for Approval to Terminate PBV HAP Contract | 20.00 | 1.00 | 20.00 | 1.00 | 20.00
Owner Notice to FO and tenants to Terminate PBV HAP Contract | 20.00 | 30.00 | 600.00 | 0.25 | 150.00
Legal Opinion that PHA's unit/project is no longer PHA-owned | 350.00 | 1.00 | 350.00 | 1.00 | 350.00
Notification to Field Office of change in ownership if project becomes PHA-owned. | 500.00 | 1.00 | 500.00 | 1.00 | 500.00
Joint PHA/Independent entity certification regarding no legal, financial, other ties. | 90.00 | 1.00 | 90.00 | 0.50 | 45.00
Certification regarding previously approved independent entity | 800.00 | 1.00 | 800.00 | 0.50 | 400.00
Notice of Rent reasonableness determinations completed by independent entity | 150.00 | 3.00 | 450.00 | 2.00 | 900.00
Notice of Review of PBV selection process by independent entity | 90.00 | 2.00 | 180.00 | 3.00 | 540.00
Waikoloa Maneuver Area public notice (HUD-50164) | 100.00 | 1.00 | 100.00 | 0.30 | 30.00
FUP Statement of Need | 300.00 | 1.00 | 300.00 | 2.00 | 600.00
FUP Memorandum of Understanding | 300.00 | 1.00 | 300.00 | 5.00 | 1,500.00
FUP Evidence of a self-sufficiency program | 175.00 | 1.00 | 175.00 | 0.50 | 88.00
HUD-VASH VAMC letter of support | 50.00 | 1.00 | 50.00 | 5.00 | 250.00
HUD-VASH signed formal agreement | 50.00 | 1.00 | 50.00 | 6.00 | 300.00
HUD-VASH boundary description | 50.00 | 1.00 | 50.00 | 0.50 | 25.00
New Inspection Protocol | 350.00 | 1.00 | 350.00 | 0.50 | 175.00
Tribal HUD-VASH application materials | 26.00 | 1.00 | 26.00 | 8.00 | 208.00
Tribal HUD-VASH Leasing Performance Report (HUD-5980) | 26.00 | 1.00 | 26.00 | 1.00 | 26.00
Totals | 2,244 | 1,853.00 | 5,762,595.00 | 57.17 | 2,164,096.50
¹ This form is included in another PRA (OMB 2501-0032). The additional burden hours for the voucher program are included in this application (4040-0004).
² This form is included in another PRA (OMB 2501-0032). The additional burden hours for the voucher program are included in this application (2510-0011).
³ This form is included in another PRA (OMB 2501-0032). The additional burden hours for the voucher program are included in this application (2577-0259).
⁴ This form is included in another PRA (OMB 2501-0032). The additional burden hours for the voucher program are included in this application (2506-0112).

Average Hours per Response: 1.24.

Total Estimated Burdens Hours: 2,164,096.50.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

(5) ways to minimize the burden of the collection of information on those who are to respond, including the use of automated collection techniques or other forms of information technology.

HUD encourages interested parties to submit comment in response to these questions.

C. Authority

Section 3507 of the Paperwork Reduction Act of 1995, 44 U.S.C. chapter 35.

Colette Pollard,
Department Reports Management Officer, Office of Policy Development and Research, Chief Data Officer.

[FR Doc. 2023-00805 Filed 1-17-23; 8:45 am]

BILLING CODE 4210-67-P